DEPARTMENT OF COMMERCE

Foreign-Trade Zones Board

[S-110-2017]

Foreign-Trade Zone 18—San Jose, California; Application for Subzone Expansion; Lam Research Corporation; Livermore, California

An application has been submitted to the Foreign-Trade Zones (FTZ) Board by the City of San Jose, grantee of FTZ 18, requesting expanded subzone status for the facilities of Lam Research Corporation (Lam), located in Livermore, California. The application was submitted pursuant to the provisions of the Foreign-Trade Zones Act, as amended (19 U.S.C. 81a-81u), and the regulations of the FTZ Board (15 CFR part 400). It was formally docketed on July 20, 2017.

Subzone 18F consists of the following sites in Fremont and Livermore: Site 1 (29 acres) 4650 Cushing Parkway, Fremont; Site 4 (14.82 acres) 1 and 101 Portola Avenue, Livermore (7.82 acres located at 101 Portola Avenue expiring on 9/30/2017); Site 5 (4.4 acres)—7364 Marathon Drive and 7150 Patterson Pass Road, Unit G, Livermore; Site 7 (0.91 acres)—6757 Las Positas Road, Livermore; Site 8 (0.44 acres)—7888 Marathon Drive, Livermore; Site 9 (1.6 acres)—41707 Christy Street, Fremont; Site 11 (1.19 acres)—4050 Starboard Drive, Fremont; and, Site 12 (0.98 acres)—7650 Marathon Drive, Livermore. The applicant is now requesting authority to expand the subzone to include the temporary 7.82 acres of Site 4 mentioned above on a permanent basis. The expanded subzone would be subject to the existing activation limit of FTZ 18.

In accordance with the FTZ Board's regulations, Christopher Kemp of the FTZ Staff is designated examiner to review the application and make recommendations to the Executive Secretary.

Public comment is invited from interested parties. Submissions shall be addressed to the FTZ Board's Executive Secretary at the address below. The closing period for their receipt is September 5, 2017. Rebuttal comments in response to material submitted during the foregoing period may be submitted during the subsequent 15-day period to September 18, 2017.

A copy of the application will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz.

For further information, contact Christopher Kemp at Christopher.Kemp@trade.gov or (202) 482-0862.

Dated: July 20, 2017.
Elizabeth Whiteman,
Acting Executive Secretary.

[FR Doc. 2017-15570 Filed 7-24-17; 8:45 am]

BILLING CODE 3510-DS-P